DEPARTMENT OF TRANSPORTATION

Federal Aviation Administration

14 CFR Part 97

[Docket No. 31206; Amdt. No. 3811]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 17, 2018. The compliance date for each SIAP, associated Takeoff Minimums, and ODP is specified in the amendatory provisions.

The incorporation by reference of certain publications listed in the regulations is approved by the Director of the Federal Register as of August 17, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on July 27, 2018.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 13 September 2018

Ketchikan, AK, Ketchikan Intl, RNAV (GPS) RWY 29, Orig

Ketchikan, AK, Ketchikan Intl, RNAV (GPS)-B, Amdt 1

Geneva, AL, Geneva Muni, Takeoff Minimums and Obstacle DP, Amdt 1

Fayetteville, AR, Drake Field, LDA RWY 34, Amdt 5

Fayetteville, AR, Drake Field, VOR/DME-B, Orig-B, CANCELED

Oakland, CA, Metropolitan Oakland Intl, RNAV (RNP) Z RWY 12, Amdt 2

San Francisco, CA, San Francisco Intl, ILS OR LOC RWY 19L, Amdt 22

San Francisco, CA, San Francisco Intl, RNAV (GPS) RWY 19R, Amdt 3

Watsonville, CA, Watsonville Muni, Takeoff Minimums and Obstacle DP, Amdt 5A

Watsonville, CA, Watsonville Muni, WATSONVILLE FOUR, Graphic DP

Augusta, GA, Daniel Field, RNAV (GPS) RWY 5, Orig

Cedartown, GA, Polk County Airport—Cornelius Moore Field, RNAV (GPS) RWY 10, Orig-B

Cedartown, GA, Polk County Airport—Cornelius Moore Field, RNAV (GPS) RWY 28, Orig-B

Paris, ID, Bear Lake County, RNAV (GPS) RWY 10, Orig

Paris, ID, Bear Lake County, RNAV (GPS) RWY 28, Orig

Paris, ID, Bear Lake County, Takeoff Minimums and Obstacle DP, Orig

Bolingbrook, IL, Bolingbrook's Clow Intl, RNAV (GPS)-B, Amdt 1A

Bolingbrook, IL, Bolingbrook's Clow Intl, VOR-A, Amdt 1A

Springfield, IL, Abraham Lincoln Capital, ILS OR LOC RWY 22, Amdt 9C

French Lick, IN, French Lick Muni, RNAV (GPS) RWY 8, Amdt 1C

French Lick, IN, French Lick Muni, RNAV (GPS) RWY 26, Orig-C

Indianapolis, IN, Indianapolis Rgnl, RNAV (GPS) RWY 34, Amdt 1B

Topeka, KS, Topeka Rgnl, TACAN RWY 13, Amdt 4B

New Roads, LA, False River Rgnl, LOC RWY 36, Amdt 2

New Roads, LA, False River Rgnl, NDB RWY 36, Amdt 2A, CANCELED

New Roads, LA, False River Rgnl, RNAV (GPS) RWY 18, Amdt 1

New Roads, LA, False River Rgnl, RNAV (GPS) RWY 36, Amdt 1

Boston, MA, General Edward Lawrence Logan Intl, RNAV (GPS) RWY 4R, Amdt 2B

Detroit, MI, Detroit Metropolitan Wayne County, ILS OR LOC RWY 4R, ILS RWY 4R SA CAT I, ILS RWY 4R CAT II, ILS RWY 4R CAT III, Amdt 19A

Detroit, MI, Detroit Metropolitan Wayne County, ILS PRM RWY 4R (CLOSE PARALLEL), ILS PRM RWY 4R (CLOSE PARALLEL) SA CAT I, ILS PRM RWY 4R (CLOSE PARALLEL) CAT II, ILS PRM RWY 4R (CLOSE PARALLEL) CAT III, Amdt 3A

Greenville, MI, Greenville Muni, Takeoff Minimums and Obstacle DP, Amdt 2B

Marquette, MI, Sawyer Intl, ILS OR LOC RWY 1, Amdt 1

Marquette, MI, Sawyer Intl, RNAV (GPS) RWY 1, Amdt 1

Marquette, MI, Sawyer Intl, RNAV (GPS) RWY 19, Amdt 2

Marquette, MI, Sawyer Intl, VOR RWY 19, Amdt 1

Hinckley, MN, Field of Dreams, RNAV (GPS) RWY 24, Orig-A, CANCELED

Red Wing, MN, Red Wing Rgnl, Takeoff Minimums and Obstacle DP, Amdt 2A

Bismarck, ND, Bismarck Muni, ILS OR LOC RWY 31, Amdt 34A

Garrison, ND, Garrison Muni, RNAV (GPS) RWY 13, Amdt 2

Garrison, ND, Garrison Muni, RNAV (GPS) RWY 31, Amdt 2

Manchester, NH, Manchester, Takeoff Minimums and Obstacle DP, Amdt 10B

Mesquite, NV, Mesquite, RNAV (GPS) Y RWY 2, Orig

Mesquite, NV, Mesquite, RNAV (GPS) Z RWY 2, Orig

Mesquite, NV, Mesquite, Takeoff Minimums and Obstacle DP, Orig

Minden, NV, Minden-Tahoe, RNAV (GPS)-A, Amdt 1

Minden, NV, Minden-Tahoe, RNAV (GPS)-B, Amdt 1

Columbus, OH, Bolton Field, ILS OR LOC RWY 4, Amdt 5A

Columbus, OH, Bolton Field, NDB RWY 4, Amdt 7A

Columbus, OH, Bolton Field, RNAV (GPS) RWY 4, Orig-B

Lebanon, OH, Warren County/John Lane Field, NDB-A, Amdt 6

Idabel, OK, Mc Curtain County Rgnl, RNAV (GPS) RWY 2, Amdt 1

Idabel, OK, Mc Curtain County Rgnl, RNAV (GPS) RWY 20, Amdt 1

Corvallis, OR, Corvallis Muni, ILS OR LOC RWY 17, Amdt 5

Corvallis, OR, Corvallis Muni, RNAV (GPS) RWY 35, Amdt 3

Corvallis, OR, Corvallis Muni, VOR RWY 17, Amdt 8

Corvallis, OR, Corvallis Muni, VOR RWY 35, Amdt 12

Corvallis, OR, Corvallis Muni, VOR-A, Amdt 11

Borger, TX, Hutchinson County, RNAV (GPS) RWY 17, Amdt 1

Borger, TX, Hutchinson County, RNAV (GPS) RWY 35, Amdt 1

Dallas, TX, Dallas Love Field, ILS OR LOC RWY 31L, Amdt 22A

Dallas, TX, Dallas Love Field, ILS OR LOC RWY 31R, ILS RWY 31R SA CAT I, ILS RWY 31R SA CAT II, Amdt 7

Dallas, TX, Dallas Love Field, ILS Y OR LOC Y RWY 13L, Amdt 33A

Dallas, TX, Dallas Love Field, ILS Y OR LOC Y RWY 13R, Amdt 6A

Dallas, TX, Dallas Love Field, RNAV (GPS) Y RWY 13L, Amdt 1C

Dallas, TX, Dallas Love Field, RNAV (GPS) Y RWY 13R, Orig-B

Dallas, TX, Dallas Love Field, RNAV (GPS) Y RWY 31L, Amdt 1E

Dallas, TX, Dallas Love Field, RNAV (GPS) Y RWY 31R, Amdt 3

Dallas, TX, Dallas Love Field, RNAV (GPS) Z RWY 13L, Amdt 3B

Dallas, TX, Dallas Love Field, RNAV (GPS) Z RWY 13R, Amdt 2A

Dallas, TX, Dallas Love Field, RNAV (RNP) W RWY 13L, Orig-C

Dallas, TX, Dallas Love Field, RNAV (RNP) X RWY 13L, Orig-C

Houston, TX, West Houston, RNAV (GPS) RWY 15, Amdt 1C

Houston, TX, West Houston, RNAV (GPS) RWY 33, Amdt 1B

Houston, TX, West Houston, VOR-D, Amdt 1, CANCELED

La Grange, TX, Fayette Rgnl Air Center, Takeoff Minimums and Obstacle DP, Amdt 1

Port Lavaca, TX, Calhoun County, Takeoff Minimums and Obstacle DP, Orig-A

RESCINDED: On July 16, 2018 (83 FR 32766), the FAA published an Amendment in Docket No. 31202, Amdt No. 3807, to Part 97 of the Federal Aviation Regulations under section 97.25, 97.29, 97.33, and 97.37. The following entries for Asheville, NC, and Cleveland, TN, effective September 13, 2018, are hereby rescinded in their entirety:

Asheville, NC, Asheville Rgnl, ILS OR LOC RWY 35, Orig

Asheville, NC, Asheville Rgnl, ILS OR LOC RWY 35, Orig, CANCELED

Asheville, NC, Asheville Rgnl, LOC RWY 17, Orig

Asheville, NC, Asheville Rgnl, RNAV (GPS) RWY 17, Orig

Asheville, NC, Asheville Rgnl, RNAV (GPS) RWY 17, Orig, CANCELED

Asheville, NC, Asheville Rgnl, RNAV (GPS) RWY 35, Orig

Asheville, NC, Asheville Rgnl, RNAV (GPS) RWY 35, Orig, CANCELED

Asheville, NC, Asheville Rgnl, Takeoff Minimums and Obstacle DP, Amdt 1

Cleveland, TN, Cleveland Rgnl Jetport, RNAV (GPS) RWY 3, Amdt 2

Cleveland, TN, Cleveland Rgnl Jetport, RNAV (GPS) RWY 21, Amdt 2

Cleveland, TN, Cleveland Rgnl Jetport, Takeoff Minimums and Obstacle DP, Amdt 2

[FR Doc. 2018-17619 Filed 8-16-18; 8:45 am]

BILLING CODE 4910-13-P